DEPARTMENT OF ENERGY

Federal Energy Regulatory Commission

[Docket No. CP00-34-000]

Algonquin Gas Transmission Company; Notice of Site Meeting

September 29, 2000.

On October 11, 2000, the Office of Energy Projects staff will attend a meeting with Algonquin Gas Transmission Company and Braintree Electric Light Department (Braintree) concerning the I-9 Lateral of the Fore River Project in Norfolk County, Massachusetts. The meeting will be held at the Braintree property (150 Potter Road, Braintree, Massachusetts) to discuss the proposed route on its property. Anyone interested in participating in the site meeting is welcome to attend. Interested parties must provide their own transportation.

Additional information about the proposed project is available from the Commission's Office of External Affairs at (202) 208-0004.

David P. Boergers,
Secretary.

[FR Doc. 00-25513 Filed 10-4-00; 8:45 am]

BILLING CODE 6717-01-M